FEDERAL MARITIME COMMISSION

Agency Information Collection Activites; Information Collection Request

AGENCY: Federal Maritime Commission.

ACTION: Notice.

SUMMARY: The Federal Maritime Commission (Commission) is giving public notice that the agency has submitted a revision to the information collection described in this notice, to the Office of Management and Budget (OMB) for approval. The public is invited to comment on the revised information collection pursuant to the Paperwork Reduction Act of 1995.

DATES: Written comments must be submitted at the addresses below on or before January 10, 2020.

ADDRESSES: Comments should be addressed to: Office of Information and Regulatory Affairs, Office of Management and Budget, Attention: Desk Officer for Federal Maritime Commission, 725 17th Street NW, Washington, DC 20503, OIRA_Submission@OMB.EOP.GOV, Fax (202) 395-6974, and to: Karen V. Gregory, Managing Director, Office of the Managing Director, Federal Maritime Commission, 800 North Capitol Street NW, Washington, DC 20573, Telephone: (202) 523-5800, omd@fmc.gov.

FOR FURTHER INFORMATION CONTACT: A copy of the submission may be obtained by contacting Donna Lee on 202-523-5800 or email: omd@fmc.gov.

SUPPLEMENTARY INFORMATION: Pursuant to the Paperwork Reduction Act of 1995 (Pub. L. 104-13), the Commission invites the general public and other Federal agencies to comment on a proposed information collection. On May 16, 2019, the Commission published a 60-day notice and request for comments in the Federal Register (84 FR 22122) on a revision to the information collection for requests for dispute resolution services submitted to its Office of Consumer Affairs and Dispute Resolution Services (CADRS). The Commission received no comments on the request for revision. The Commission specifically solicits information relevant to the following topics: (1) Whether the collection of information described below is necessary for the proper performance of the Commission's functions, including whether the information would have practical utility; (2) whether the estimated burden of the proposed collection of information is accurate; (3) whether the quality, utility, and clarity of the information to be collected could be enhanced; and (4) whether the burden imposed by the collection of information could be minimized by use of automated, electronic, or other forms of information technology.

Information Collection Open for Comment

Title: Request for Dispute Resolution Service.

OMB Control Number: 3072-0072.

Type of Review: Information Collection Revision.

Frequency of Response: On occasion.

Respondents/Affected Public: Companies or individuals seeking ombuds or mediation assistance from the Federal Maritime Commission's Office of Consumer Affairs and Dispute Resolution Services.

Estimated Total Number of Potential Annual Responses: 500.

Estimated Total Number of Responses for each Respondent: 1.

Estimated Total Annual Burden Hours per Response: 15 minutes.

Total Estimated Number of Annual Burden Hours: 125.

Abstract: This is a revision to the currently-approved FMC Form-32 (Request for Dispute Resolution Service—Cruise). When requested by the public and the regulated industry, the FMC, through CADRS, provides ombuds and mediation services to assist parties in resolving passenger vessel (cruise) disputes without resorting to litigation or administrative adjudication. These functions focus on addressing issues that members of the regulated industry and the public may encounter at any stage of a commercial or customer dispute. In order to provide its ombuds and mediation services, CADRS needs certain identifying information about the involved parties and nature of the dispute. In response to requests for assistance from the public, CADRS requests this information from parties seeking its assistance. The collection and use of this information on a cruise dispute is integral to CADRS staff's ability to efficiently review the matter and provide assistance. Aggregated information may be used for statistical purposes.

The proposed revision to Form FMC-32 would add a request for booking or ticket contract number and would remove a request to indicate whether the cruise ended at a U.S. port.

As required by the Administrative Dispute Resolution Act (ADRA), 5 U.S.C. 571 et seq., the information contained in these forms is treated as confidential and subject to the same confidentiality provisions as administrative dispute resolutions pursuant to 5 U.S.C. 574. Except as specifically set forth in 5 U.S.C. 574, neither CADRS staff nor the parties to a dispute resolution shall disclose any informal dispute resolution communication.

This information collection is subject to the Paperwork Reduction Act (PRA). The FMC may not conduct or sponsor a collection of information, and the public is not required to respond to an information collection, unless it is approved by the OMB under the PRA and displays a currently valid OMB Control Number. In addition, notwithstanding any other provisions of law, no person shall be subject to penalty for failing to comply with a collection of information that does not display a valid Control Number. See 5 CFR 1320.5(a) and 1320.6. As required by ADRA, 5 U.S.C. 571-574, the information contained in these forms is treated as confidential and subject to the same confidentiality provisions as administrative dispute resolutions pursuant to 5 U.S.C. 574. Except as specifically set forth in 5 U.S.C. 574, neither CADRS staff nor the parties to a dispute resolution shall disclose any informal dispute resolution communication.

Authority: 46 U.S.C. 40101 et seq.

Rachel Dickon,
Secretary.

[FR Doc. 2019-26678 Filed 12-10-19; 8:45 am]

BILLING CODE 6731-AA-P